DEPARTMENT OF COMMERCE

Foreign-Trade Zones Board

[Order No. 1796]

Reorganization of Foreign-Trade Zone 37 (Expansion of Service Area) Under Alternative Site Framework Orange County, NY

Pursuant to its authority under the Foreign-Trade Zones Act of June 18, 1934, as amended (19 U.S.C. 81a-81u), the Foreign-Trade Zones Board (the Board) adopts the following Order:

Whereas, the Board adopted the alternative site framework (ASF) (74 FR 1170, 01/12/09; correction 74 FR 3987, 01/22/09; 75 FR 71069-71070, 11/22/10) as an option for the establishment or reorganization of general-purpose zones;

Whereas, Orange County, grantee of Foreign-Trade Zone 37, submitted an application to the Board (FTZ Docket 42-2011, filed 6/15/2011) for authority to expand the service area of the zone to include Duchess County, as described in the application, adjacent to the New York/Newark Customs and Border Protection port of entry;

Whereas, notice inviting public comment was given in the Federal Register (76 FR 36080, 06/21/11) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to reorganize FTZ 37 to expand the service area under the alternative site framework is approved, subject to the FTZ Act and the Board's regulations, including Section 400.28, and to the Board's standard 2,000-acre activation limit for the overall general-purpose zone project.

Signed at Washington, DC, this 24th day of October 2011.
Ronald K. Lorentzen,
Deputy Assistant Secretary for Import Administration, Alternate Chairman, Foreign-Trade Zones Board.

[FR Doc. 2011-28325 Filed 10-31-11; 8:45 am]

BILLING CODE P